NUCLEAR REGULATORY COMMISSION

[NUREG-1671]

Standard Review Plan for the Recertification of the Gaseous Diffusion Plants Notice of Availability

AGENCY: Nuclear Regulatory Commission.

ACTION: Notice of availability.

SUMMARY: Because of significant changes to current U.S. Nuclear Regulatory Commission (NRC) decommissioning financial assurance guidance, NRC is offering the opportunity for additional public review and comment on the revised Section 14.0, “Decommission Funding Plan and Financial Assurance Mechanisms,” of the draft report NUREG-1671 entitled, “Standard Review Plan for the Recertification of the Gaseous Diffusion Plants” (GDPs).

DATES: Submit comments to the address listed below by January 11, 2001. Comments received after this date will be considered if it is practical to do so, but the Commission is able to ensure consideration only for comments received on or before this date.

ADDRESSES: Mail written comments to: Chief, Rules and Directives Branch, U.S. Nuclear Regulatory Commission, Washington, DC 20555-0001. Hand deliver comments to 11545 Rockville Pike, Rockville, Maryland 20852, between 7:45 am and 4:15 pm during Federal workdays.

Draft NUREG-1671, without the revised Section 14.0, is available for inspection and copying for a fee at the NRC public document room (PDR), that is currently located at NRC's headquarters building, One White Flint North, 11555 Rockville Pike, Rockville, Maryland 20852. A copy of the draft revised Section 14.0 may also be obtained from the NRC's Internet website at: http://www.nrc.gov/NRC/NUREG/index.html or from the Agency's document management system, called ADAMS, at: http://www.nrc.gov/NRC/ADAMS/index.html

FOR FURTHER INFORMATION CONTACT: Timothy C. Johnson, Division of Fuel Cycle Safety and Safeguards, Office of Nuclear Material Safety and Safeguards, U.S. Nuclear Regulatory Commission, Washington, DC 20555. Telephone: (301) 415-7299.

Dated at Rockville, Maryland, this 6th day of December 2000.
For the Nuclear Regulatory Commission.
Eric J. Leeds,
Chief, Special Projects Branch, Division of Fuel Cycle Safety and Safeguards, Office of Nuclear Material Safety and Safeguards.

[FR Doc. 00-31540 Filed 12-11-00; 8:45 am]

BILLING CODE 7590-01-M